DEPARTMENT OF ENERGY

Federal Energy Regulatory Commission

[Docket No. AD10-4-000]

Guidance on Preparation of Market-Based Rate Filings and Electric Quarterly Reports by Public Utilities; Notice of Technical Conference

January 28, 2010.

Take notice that Commission staff will convene a technical conference in the above-referenced proceeding on Wednesday, March 3, 2010 at 9 a.m. (Eastern Standard Time) in the Commission Meeting Room at the Commission's Washington, DC headquarters, 888 First Street, NE., Washington, DC 20426. A separate notice will be issued by the Commission at a later date to announce the final agenda of the technical conference.

The March 3, 2010 technical conference will focus on the mechanics of how to prepare an initial electric public utility market-based rate application and subsequent filings (including triennial market power reviews and change in status filings), as well as the requirement to submit Electric Quarterly Reports to the Commission once a seller has received market-based rate authorization. At the technical conference staff will also address the most frequently-asked questions that arise on electric market-based rate filings, the most common errors that are made in such filings, and highlight what tools are currently available to sellers in order to simplify the market-based rate application process as well as the preparation of subsequent required filings.

The technical conference is open to all interested persons. Interested persons planning on attending the technical conference are strongly encouraged to submit in writing any questions or specific topics that they would like addressed during the technical conference. Suggestions should be submitted to both Ryan Anderson at ryan.anderson@ferc.gov and to David Hunger at david.hunger@ferc.gov by Wednesday, February 17, 2010, and include “AD10-4-000 Questions” in the subject line.

Any person planning to attend the technical conference is strongly encouraged to register by close of business on Wednesday, February 24, 2010. Registration may be submitted either online at https://www.ferc.gov/whats-new/registration/mbr-03-03-10-form.asp or by faxing a copy of the form (found at the referenced online link) to (202) 208-0353.

For further information, please contact Ryan Anderson at (202) 502-8122 or e-mail ryan.anderson@ferc.gov.

A free Webcast of the technical conference will be available. Registration to view the Webcast is not required. Webcast viewers will not be permitted to participate during the technical conference. Anyone with Internet access interested in viewing this conference can do so by navigating to http://www.ferc.gov's Calendar of Events and locating the appropriate event in the Calendar. The events will contain a link to the applicable Webcast option. The Capitol Connection provides technical support for the webcasts and offers the option of listening to the conferences via phone-bridge for a fee. If you have any questions, visit http://www.CapitolConnection.org or call (703) 993-3100.

FERC conferences are accessible under section 508 of the Rehabilitation Act of 1973. For accessibility accommodations please send an e-mail to accessibility@ferc.gov or call toll free (866) 208-3372 (voice) or (202) 502-8659 (TTY), or send a fax to (202) 208-2106 with the required accommodations.

Kimberly D. Bose,
Secretary.

[FR Doc. 2010-2271 Filed 2-3-10; 8:45 am]

BILLING CODE 6717-01-P